DEPARTMENT OF LABOR

Employment and Training Administration

[TA-W-51,587]

Nestle USA, Confections and Snacks Division, Fulton, NY; Amended Certification Regarding Eligibility To Apply for Worker Adjustment Assistance

In accordance with section 223 of the Trade Act of 1974 (19 U.S.C. 2273) the Department of Labor issued a Certification of Eligibility To Apply for Worker Adjustment Assistance on May 23, 2003, applicable to workers of Nestle USA, Confections and Snacks Division located in Fulton, New York. The notice was published in the Federal Register on June 19, 2003 (68 FR 36846).

The Department reviewed the certification for workers of the subject firm. The workers produce chocolate crunch, white crunch, chunky and Wonka candy bars.

The review shows that the Department inadvertently set the incorrect impact date. The Federal Register notice shows April 14, 2003 as the impact date for TA-W-51,587, and should be April 14, 2002. Therefore, the Department is amending certification to reflect the correct impact date to read April 14, 2002.

The amended notice applicable to TA-W-51,587 is hereby issued as follows:

All workers of Nestle USA, Confections and Snack Division, Fulton, New York, who became totally or partially separated from employment on or after April 14, 2002, through May 23, 2005, are eligible to apply for adjustment assistance under section 223 of the Trade Act of 1974.

Signed at Washington, DC, this 30th day of June, 2003.
Linda G. Poole,
Certifying Officer, Division of Trade Adjustment Assistance.

[FR Doc. 03-17826 Filed 7-14-03; 8:45 am]

BILLING CODE 4510-30-P